DEPARTMENT OF JUSTICE

Notice of Lodging of Proposed Consent Decree Under the Comprehensive Environmental Response, Compensation and Liabilty Act

On November 1, 2016, the Department of Justice lodged a proposed consent decree with the United States District Court for the Central District of California in the lawsuit entitled United States v. JPMorgan Chase Bank, N.A., et al., Civil Action No. 16-cv-08127.

The United States filed this lawsuit under the Comprehensive Environmental Response, Compensation and Liability Act (CERCLA). The United States' complaint names JPMorgan Chase Bank, N.A., WMI Liquidating Trust, and WMI Rainier LLC. The complaint requests recovery of costs that the United States incurred responding to releases and threatened releases of hazardous substances at the BKK Sanitary Landfill Site in West Covina, California. All three defendants signed the consent decree. JPMorgan Chase Bank N.A. agrees to pay $1 million of the United States' response costs on behalf of all three defendants. In return, the United States agrees not to sue the defendants under sections 106 and 107(a) of CERCLA or under section 7003 of the Resource Conservation and Recovery Act. The consent decree provides that the United States' agreement not to sue the defendants is also conditioned on JPMorgan Chase Bank N.A.'s payment of $85 million to be directed toward cleanup of the Site under a separate pending consent decree it signed with the California Department of Toxic Substances Control in a separate case relating to the BKK Sanitary Landfill Site, California Department of Toxic Substances Control and the California Toxic Substances Control Account v. American Honda Motor Co., Inc., et al., Civil Action No. 05-cv-07746.

The publication of this notice opens a period for public comment on the consent decree. Comments should be addressed to the Assistant Attorney General, Environment and Natural Resources Division, and should refer to United States v. JPMorgan Chase Bank, N.A., et al., D.J. Ref. No. 90-11-3-10782. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $9.25 (25 cents per page reproduction cost) payable to the United States Treasury.

Henry S. Friedman,
Assistant Section Chief, Environmental Enforcement Section, Environment and Natural Resources Division.

[FR Doc. 2016-27018 Filed 11-8-16; 8:45 am]

BILLING CODE 4410-15-P